GENERAL SERVICES ADMINISTRATION

[Notice-MRB-2023-02; Docket No. GAPFAC 2022-0001; Sequence No. 2]

GSA Acquisition Policy Federal Advisory Committee; Notification of Upcoming Public Meeting

AGENCY: Office of Government-Wide Policy, General Services Administration (GSA).

ACTION: Notice.

SUMMARY: GSA is providing notice of a meeting of the GSA Acquisition Policy Federal Advisory Committee (hereinafter “the Committee” or “the GAP FAC”) in accordance with the requirements of the Federal Advisory Committee Act (FACA). This meeting will be open to the public, accessible via webcast and in person. Information on attending and providing written public comment is under the SUPPLEMENTARY INFORMATION section.

DATES: The GAP FAC will hold a hybrid open public meeting on Thursday, May 4, 2023, from 9:30 a.m. to 12:30 p.m. Eastern Standard Time (EST).

ADDRESSES: This will be a hybrid meeting accessible via webcast and in person at GSA Headquarters, (Rooms: 1459, 1460, and 1461),1800 F Street NW, Washington, DC 20405. In person seating is limited.

FOR FURTHER INFORMATION CONTACT: Boris Arratia, Designated Federal Officer, Office of Government-wide Policy, 703-795-0816, or email: boris.arratia@gsa.gov; or Stephanie Hardison, Office of Government-wide Policy, 202-258-6823, or email: stephanie.hardison@gsa.gov. Additional information about the Committee, including meeting materials and agendas, will be available on-line at https://gsa.gov/policy-regulations/policy/acquisition-policy/gsa-acquisition-policy-federal-advisory-committee.

SUPPLEMENTARY INFORMATION: The Administrator of GSA established the GAP FAC as a discretionary advisory committee under agency authority in accordance with the provisions of the FACA, as amended (5 U.S.C. app 2).

As America's buyer, GSA is uniquely positioned to enable a modern, accessible, and streamlined acquisition ecosystem and a robust marketplace connecting buyers to the suppliers and businesses that meet their mission needs. The GAP FAC will assist GSA in this endeavor through expert advice on a broad range of innovative solutions to acquisition policy, workforce, and industry partnership challenges.

The GAP FAC will serve as an advisory body to GSA's Administrator on how GSA can use its acquisition tools and authorities to target the highest priority Federal acquisition challenges. The initial focus for the GAP FAC will be on driving regulatory, policy, and process changes required to embed climate and sustainability considerations in Federal acquisition. This includes examining and recommending steps GSA can take to support its workforce and industry partners in ensuring climate and sustainability issues are fully considered in the acquisition process.

Purpose of the Meeting

The purpose of this meeting is for each of the three subcommittees (Policy and Practice, Industry Partnerships, and Acquisition Workforce) to present recommendations to the full Committee. The Committee will, in turn, deliberate and vote on GAP FAC recommendations to be delivered to the GSA Administrator.

Meeting Agenda

• Opening Remarks

• Acquisition Workforce Subcommittee Recommendations and Discussion

• Industry Partnerships Subcommittee Recommendations and Discussion

• Policy and Practices Subcommittee Recommendations and Discussion

• Vote on recommendations

• Closing Remarks and Adjourn

Meeting Registration

This hybrid meeting is open to the public and will be accessible by webcast and in person. Registration information is located on the GAP FAC website: https://www.gsa.gov/policy-regulations/policy/acquisition-policy/gsa-acquisition-policy-federal-advisory-committee. Public attendees who want to attend virtually will need to register no later than 5:00 p.m. EST, on Wednesday, May 3, 2023 to obtain the meeting webcast information. Pre-registration for attending the meeting in person is highly encouraged. In-person public attendance at the meeting is limited to the available space, and seating is available on a first come first serve basis. Due to security requirements, all non-US citizens or nationals who wish to attend in-person need to register no later than 5:00 p.m. EST, on Monday, May 1, 2023 in order to access the building.

All registrants will be asked to provide their name, affiliation, and email address. After registration, individuals will receive webcast access information or in-person attendance details via email.

Public Comments

Written public comments are being accepted via http://www.regulations.gov, the Federal eRulemaking portal throughout the life of the Committee and three Subcommittees. To submit a written public comment, go to http://www.regulations.gov and search for GAPFAC-2022-0001. Select the link “Comment Now” that corresponds with this notice. Follow the instructions provided on the screen. Please include your name, company name (if applicable), and “GAPFAC-2022-0001, Notification of Upcoming Web-Based Public Meetings” on your attached document (if applicable).

Special Accommodations

For information on services for individuals with disabilities, or to request accommodation of a disability, please contact the Designated Federal Officer at least 10 business days prior to the meeting to give GSA as much time as possible to process the request. Closed captioning and live American Sign Language (ASL) interpreter services will be available.

Jeffrey A. Koses,
Senior Procurement Executive, Office of Acquisition Policy, Office of Government-wide Policy.

[FR Doc. 2023-07284 Filed 4-7-23; 8:45 am]

BILLING CODE 6820-RV-P